FEDERAL MARITIME COMMISSION

[Docket No. 14-06]

Santa Fe Discount Cruise Parking, Inc., D/B/A EZ Cruise Parking, Lighthouse Parking Inc., and Sylvia Robledo D/B/A 81st Dolphin Parking v. The Board of Trustees of the Galveston Wharves, and the Galveston Port Facilities Corporation; Notice of Filing of Complaint and Assignment

Notice is given that a complaint has been filed with the Federal Maritime Commission (Commission) by Santa Fe Discount Cruise Parking, Inc., d/b/a EZ Cruise Parking (EZ Cruise Parking); Lighthouse Parking Inc. (Lighthouse Parking); and Sylvia Robledo d/b/a 81st Dolphin Parking (81st Dolphin Parking), hereinafter “Complainants,” against the Board of Trustees of the Galveston Wharves, and the Galveston Port Facilities Corporation, hereinafter “Respondents.” Complainants state that EZ Cruise Parking and Lighthouse Parking are respectively for-profit corporations organized and existing under the laws of the State of Texas that provide vehicle parking and shuttle services to cruise passengers using the Port of Galveston Cruise Terminal, and that 81st Dolphin Parking leases and operates a private parking lot facility and shuttle service for cruise passengers using the Port of Galveston Cruise Terminal. Complainants allege that Respondents are marine terminal operators within the meaning of the Shipping Act, 46 U.S.C. 40102(14).

Complainants allege that Respondents have violated the Shipping Act, 46 U.S.C. 41102(c), 41106(2) and (3) by charging Complainants “. . . `Access Fees' under Respondents' Tariff that are excessive and not reasonably related to the value of services rendered to Complainants;” by “application of such charges, [forcing] Complainants to subsidize Respondents' costs associated with services provided to other users of port facilities . . . [that] receive greater levels of service and benefit from the Respondents' services at a lower cost; and by [refusing] “. . . to negotiate any modification of its Access Fees charged to Off-Port Parking Users that were increased more than three-fold on May 19, 2014.”

Complainants requests that “Respondents be required to answer these charges, and that after due investigation and hearing, be ordered to: (i) cease and desist from the . . . described violations of the Shipping Act of 1984; (ii) establish and put in force such practices as . . . [the] Commission determines to be lawful and reasonable; (iii) award reparations to Complainants for the unlawful conduct described in the complaint including the amount of actual injury, plus interest, costs, and attorney's fees; (iv) award any and all other damages that me [sic] be determined to be just an proper; and (v) all other and such relief unto which Complainants may show themselves justly entitled.”

The full text of the complaint can be found in the Commission's Electronic Reading Room at www.fmc.gov/14-06.

This proceeding has been assigned to the Office of Administrative Law Judges. The initial decision of the presiding officer in this proceeding shall be issued by June 24, 2015 and the final decision of the Commission shall be issued by December 21, 2015.

Karen V. Gregory,
Secretary.

[FR Doc. 2014-15172 Filed 6-27-14; 8:45 am]

BILLING CODE 6730-01-P